NUCLEAR REGULATORY COMMISSION

[Docket Nos. 50-333, 50-293, and 50-271; NRC-2013-0192]

Entergy Nuclear Operations, Inc.; James A. FitzPatrick Nuclear Power Plant, Pilgrim Nuclear Power Station, and Vermont Yankee Nuclear Power Station

AGENCY: Nuclear Regulatory Commission.

ACTION: Director's decision under 10 CFR 2.206; issuance.

SUMMARY: The U.S. Nuclear Regulatory Commission (NRC) has issued a director's decision with regard to a petition dated March, 18, 2013, filed by Mr. Timothy Judson on behalf of the Alliance for a Green Economy, Citizens Awareness Network, Pilgrim Watch, and Vermont Citizens Action Network (hereafter, referred to as “the petitioners”) requesting that the NRC take action with regard to James A. FitzPatrick Nuclear Power Plant (FitzPatrick), Pilgrim Nuclear Power Station (Pilgrim), and Vermont Yankee Nuclear Power Station (Vermont Yankee). The petitioners' requests and the director's decision are included in the SUPPLEMENTARY INFORMATION section of this document.

DATES: September 4, 2015.

ADDRESSES: Please refer to Docket ID NRC-2013-0192 when contacting the NRC about the availability of information regarding this document. You may obtain publicly-available information related to this document using any of the following methods:

• Federal Rulemaking Web site: Go to http://www.regulations.gov and search for Docket ID NRC-2013-0192. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Richard Guzman, Office of Nuclear Reactor Regulation, U.S. Nuclear Regulatory Commission, Washington, DC 20555-0001; telephone: 301-415-1030, email: Richard.Guzman@nrc.gov.

SUPPLEMENTARY INFORMATION: Notice is hereby given that the Director, Office of Nuclear Reactor Regulation, has issued a director's decision (ADAMS Accession No. ML15162A763) on a petition filed by the petitioners on March, 18, 2013 (ADAMS Accession No. ML13079A022). The petition was supplemented by letters dated April 23, May 7, June 28, July 22, October 16, November 13, November 27, and December 2, 2013, October 20, 2014, and January 27, 2015 (ADAMS Accession Nos. ML13133A161, ML13135A001, ML13184A109, ML13205A251, ML13294A400, ML13335A002, ML14016A361, ML15027A458, ML15027A462, and ML15039A011, respectively).

The petitioners requested that the NRC take enforcement action to: (1) Suspend operations at FitzPatrick and Vermont Yankee; (2) investigate whether Entergy Nuclear Operations, Inc, (ENO, the licensee) possesses sufficient funds to cease operations and decommission FitzPatrick and Vermont Yankee, per section 50.75 of Title 10 of the Code of Federal Regulations (10 CFR), “Reporting and recordkeeping for decommissioning planning”; and (3) investigate ENO's current financial qualifications per 10 CFR 50.33(f)(5) to determine whether remains qualified to continue operating Pilgrim.

As the basis of the request, the petitioners asserted that ENO no longer meets the financial qualifications requirements to possess the licenses and operate FitzPatrick, Pilgrim, and Vermont Yankee in accordance with 10 CFR 50.33(f)(2) and 10 CFR 50.80(b)(1)(i).

On May 7, 2013, the petitioners met with the NRC's Petition Review Board (PRB). The meeting provided the petitioners and the licensee an opportunity to provide additional information and to clarify issues cited in the petition. The transcript for that meeting is available in ADAMS under Accession No. ML13135A001.

By letter dated August 7, 2013 (ADAMS Accession No. ML13154A313), the NRC informed the petitioners that their request for immediate actions to suspend operations at FitzPatrick and Vermont Yankee was denied. In the same letter, the NRC also informed the petitioners of the PRB's final recommendation to accept the petition for review, because it met the criteria in Management Directive 8.11, Section III.C, “Criteria for Reviewing Petitions Under 10 CFR 2.206.”

The NRC sent a copy of the proposed director's decision to the petitioners and the licensee for comment on March 27, 2015 (ADAMS Accession Nos. ML15040A159 and ML15040A140, respectively). The petitioners and the licensee were asked to provide comments within 30 days on any part of the proposed director's decision that was considered to be erroneous or any issues in the petition that were not addressed. Comments were received and are addressed in the attachments to the final director's decision.

The Director of the Office of Nuclear Reactor Regulation denied the petitioners' request for the following actions:

(1) Suspend operations at FitzPatrick and Vermont Yankee.

(2) Investigate whether ENO possesses sufficient funds to cease operations and decommission FitzPatrick and Vermont Yankee, per 10 CFR 50.75.

(3) Investigate ENO's current financial qualifications per 10 CFR 50.33(f)(5) to determine whether the licensee remains qualified to continue operating Pilgrim, be granted.

The reasons for these decisions are explained in the director's decision (DD-15-08) pursuant to 10 CFR 2.206 of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 27th day of August, 2015.
For the Nuclear Regulatory Commission.
Michele G. Evans,
Deputy Director, Office of Nuclear Reactor Regulation.

[FR Doc. 2015-22049 Filed 9-3-15; 8:45 am]

BILLING CODE 7590-01-P